POSTAL REGULATORY COMMISSION

[Docket No. PI-2008-3]

Universal Postal Service Obligation

AGENCY: Postal Regulatory Commission.

ACTION: Notice of public hearing.

SUMMARY: A public hearing has been scheduled to receive additional testimony on the universal postal service obligation. Receipt of this testimony will assist the Commission in developing a formal report due later this year.

DATES: July 10, 2008.

ADDRESSES: The hearing will be held in the Commission's hearing room at 901 New York Avenue, NW., Suite 200, Washington, DC 20268-0001.

FOR FURTHER INFORMATION CONTACT: Ann C. Fisher, Postal Regulatory Commission, at 202-789-6803 or ann.fisher@prc.gov.

SUPPLEMENTARY INFORMATION: In Order No. 71, the Postal Regulatory Commission (Commission) established a docket to address its responsibility, under section 702 of the Postal Accountability and Enhancement Act, Public Law 109-435, to submit a report to the President and the Congress on “universal postal service and the postal monopoly in the United States * * * including the monopoly on the delivery of mail and on access to mailboxes.” In support of this obligation, the Commission has undertaken a public outreach effort, including regional field hearings and a public workshop in Washington, DC. The Commission has decided to add a public hearing on Thursday, July 10, 2008, from 10 a.m. to 12 p.m. in the Commission's main hearing room. For information on the witness list, please consult the Commission's Web site, http://www.prc.gov.

Steven W. Williams,
Secretary.

[FR Doc. E8-15286 Filed 7-3-08; 8:45 am]

BILLING CODE 7710-FW-P